OFFICE OF PERSONNEL MANAGEMENT

Proposed Collection: Comment Request for Review of a Revised Information Collection: Procedures for Submitting Compensation and Leave Claims, OPM 1673

AGENCY: U.S. Office of Personnel Management.

ACTION: Notice.

SUMMARY: In accordance with the Paperwork Reduction Act of 1995 (Public Law 104-13, May 22, 1995), this notice announces that the U.S. Office of Personnel Management (OPM) intends to submit to the Office of Management and Budget (OMB) a request for review of a revised information collection. Procedures for Submitting Compensation and Leave Claims, OPM 1673, is used to collect information from current and former Federal employees who are submitting a claim for compensation and/or leave. OPM needs this information in order to adjudicate the claim.

Approximately 100 claims are submitted annually. It takes approximately 60 minutes to compile the information needed to submit a claim. The annual estimated burden is 100 hours.

Comments are particularly invited on:

—Whether this collection of information is necessary for the proper performance of functions of OPM, and whether it will have practical utility;

—Whether our estimate of the public burden of this collection is accurate, and based on valid assumptions and methodology; and

—Ways in which we can minimize the burden of the collection of information on those who are to respond, through use of the appropriate technological collection techniques or other forms of information technology.

For copies of this proposal, contact Mary Beth Smith-Toomey on (202) 606-8358, FAX (202) 418-3251, or e-mail to mbtoomey@opm.gov. Please include a mailing address with your request.

DATES: Comments on this proposal should be received within 60 calendar days from the date of this publication.

ADDRESSES: Send or deliver comments to—Robert D. Hendler, Acting Program Manager, Center for Merit Systems Compliance, Division for Human Capital Leadership and Merit System Compliance Group, U.S. Office of Personnel Management, 1900 E Street, NW., Room 7465, Washington, DC 20415.

Office of Personnel Management.
Kay Coles James,
Director.

[FR Doc. 04-19640 Filed 8-27-04; 8:45 am]

BILLING CODE 6325-27-P